DEPARTMENT OF JUSTICE

Notice of Lodging of Proposed Consent Decree Under the Clean Water Act

On July 16, 2021, the U.S. Department of Justice (DOJ) lodged a proposed Amendment to Consent Decree with the United States District Court for the Northern District of Indiana in United States and State of Indiana v. City of Elkhart, Indiana, Civil Action No. 2:11CV328. The lodging of the proposed Amendment to Consent Decree, by the United States on behalf of the U.S. Environmental Protection Agency, with the concurrence of the State of Indiana on behalf of the Indiana Department of Environmental Management, modifies the Consent Decree in this action that was entered by the Court on November 30, 2011.

The 2011 Consent Decree resolved claims for civil penalties as well as injunctive relief in the form of a Long Term Control Plan (LTCP) for violations of the Clean Water Act and related State law claims in connection with the City of Elkhart's operation of its municipal wastewater and sewer system. The proposed Amendment to Consent Decree modifies the LTCP by allowing the City to change the technology currently used to treat the wastewater originating from its combined sewer system, allowing one additional year to implement such change.

The publication of this notice opens a period for public comment on the proposed Consent Decree. Comments should be addressed to the Acting Assistant Attorney General, Environment and Natural Resources Division, and should refer to United States and State of Indiana v. City of Elkhart, Indiana, D.J. Ref. No. 90-5-1-1-08202. All comments must be submitted no later than thirty (30) days after the publication date of this notice. Comments may be submitted either by email or by mail:

To submit comments: | Send them to:
By email | pubcomment-ees.enrd@usdoj.gov.
By mail | Acting Assistant Attorney General, U.S. DOJ—ENRD, P.O. Box 7611, Washington, DC 20044-7611.

During the public comment period, the proposed Consent Decree may be examined and downloaded at this Justice Department website: http://www.justice.gov/enrd/consent-decrees.

We will provide a paper copy of the proposed Consent Decree upon written request and payment of reproduction costs. Please mail your request and payment to: Consent Decree Library, U.S. DOJ—ENRD, P.O. Box 7611, Washington, DC 20044-7611.

Please enclose a check or money order for $18.25 (25 cents per page reproduction cost), payable to the United States Treasury.

Patricia McKenna,
Assistant Section Chief, Environmental Enforcement Section, Environment and Natural Resources Division.

[FR Doc. 2021-15934 Filed 7-26-21; 8:45 am]

BILLING CODE 4410-15-P